DEPARTMENT OF TRANSPORTATION

Federal Aviation Administration

FAA Approval of Noise Compatibility Program 14 CFR Part 150; Spirit of St. Louis Airport, Chesterfield, MO

AGENCY: Federal Aviation Administration, DOT.

ACTION: Notice.

SUMMARY: The Federal Aviation Administration (FAA) announces its findings on the noise compatibility program submitted by St. Louis County under the provisions of 49 U.S.C. (the Aviation Safety and Noise Abatement Act, hereinafter referred to as “the Act”) and 14 CFR part 150. These findings are made in recognition of the description of Federal and nonfederal responsibilities in Senate Report No. 96-52 (1980). On December 12, 2006, the FAA determined that the noise exposure maps submitted by St. Louis County under Part 150 were in compliance with applicable requirements. On April 6, 2007, the FAA approved the Spirit of St. Louis Airport noise compatibility program. All but one of the recommendations of the program was approved.

DATES: Effective date: The effective date of the FAA's approval of the Spirit of St. Louis Airport noise compatibility program is April 6, 2007.

FOR FURTHER INFORMATION CONTACT: Mark Schenkelberg, 901 Locust, Kansas City, Missouri, 816-329-2645. Documents reflecting this FAA action may be reviewed at this same location.

SUPPLEMENTARY INFORMATION: This notice announces that the FAA has given its overall approval to the noise compatibility program for Spirit of St. Louis Airport, effective April 6, 2007.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types of classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other power and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Regional Office in Kansas City, Missouri.

St. Louis County submitted to the FAA on November 2, 2006, the noise exposure maps, descriptions, and other documentation produced during the noise compatibility planning study conducted from 2002 through 2006. The Spirit of St. Louis Airport noise exposure maps were determined by FAA to be in compliance with applicable requirements on December 12, 2006. Notice of this determination was published in the Federal Register, Vol. 71, No. 242, on December 18, 2006.

The Spirit of St. Louis Airport study contains a proposed noise compatibility program comprised of actions designed for phased implementation by airport management and adjacent jurisdictions from 2006 to the year 2011. It was requested that the FAA evaluate and approve this material as a noise compatibility program as described in section 47504 of the Act. The FAA began its review of the program on December 12, 2006, and was required by a provision of the Act to approve or disapprove the program within 180 days (other than the use of new or modified flight procedures for noise control). Failure to approve or disapprove such program within the 180-day period shall be deemed to be an approval of such program.

The submitted program contained thirteen proposed actions for noise mitigation on and off the airport. The FAA completed its review and determined that the procedural and substantive requirements of the Act and FAR Part 150 have been satisfied. The overall program, therefore, was approved by the FAA effective April 6, 2007.

Outright approval was granted for twelve of the specific program elements. The extension of the north runway was disapproved for lack of noise benefit to noncompatible land uses exposed to noise levels of DNL 65 dBA.

These determinations are set forth in detail in a Record of Approval signed by the Central Region Airports Division Manager on April 6, 2007. The Record of Approval, as well as other evaluation materials and the documents comprising the submittal, are available for review at the FAA office listed above and at the administrative offices of St. Louis County. The Record of Approval also will be available on-line at http://www.faa.gov/arp/environmental/14cfr150/index14.cfm.

Issued in Central Region April 10, 2007.
George A. Hendon,
Central Region Airports Division Manager.

[FR Doc. 07-1906 Filed 4-17-07; 8:45 am]

BILLING CODE 4910-13-M